FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 6, 2002.

A. Federal Reserve Bank of Atlanta (Cynthia C. Goodwin, Vice President) 1000 Peachtree Street, N.E., Atlanta, Georgia 30309-4470:

1. First Financial Fund, Inc., Newark, New Jersey; to retain voting shares of FirstFed Bancorp, Inc., Bessemer, Alabama, and thereby indirectly retain voting shares of First Financial Bank, Bessemer, Alabama.

B. Federal Reserve Bank of St. Louis (Randall C. Sumner, Vice President) 411 Locust Street, St. Louis, Missouri 63166-2034:

1. Douglas A. Habig, Jasper, Indiana; to retain voting shares of SVB&T Corporation, French Lick, Indiana, and thereby indirectly retain voting shares of Springs Valley Bank & Trust Company, French Lick, Indiana.

Board of Governors of the Federal Reserve System, April 16, 2002.
Robert deV. Frierson,
Deputy Secretary of the Board.

[FR Doc. 02-9698 Filed 4-19-02; 8:45 am]

BILLING CODE 6210-01-S